NATIONAL CREDIT UNION ADMINISTRATION

Sunshine Act Meeting

TIME AND DATE: 10 a.m., Thursday, May 16, 2002.

PLACE: Board Room, 7th Floor, Room 7047, 1775 Duke Street, Alexandria, VA 22314-3428.

STATUS: Open.

MATTERS TO BE CONSIDERED: 1. Requests from four (4) Federal Credit Unions to Convert to Community Charters.

2. Proposed Rule: Amendments to Part 702 of NCUA's Rules and Regulations, Prompt Corrective Action.

3. Final Interpretive Ruling and Policy Statement: Allowance For Loan and Lease Losses Methodologies and Documentation for Federally Insured Credit Unions.

FOR FURTHER INFORMATION CONTACT: Becky Baker, Secretary of the Board, telephone: 703-518-6304.

Becky Baker,
Secretary of the Board.

[FR Doc. 02-12072 Filed 5-9-02; 4:28 pm]

BILLING CODE 7535-01-M